DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

St. Louis Steam Train Association

[Docket Number FRA-2002-11701]

The St. Louis Steam Train Association (SLSTA) has petitioned the Federal Railroad Administration for a temporary waiver of compliance for time on duty limitations from the requirements of Title 49, U.S.C. 21103(a), which requires the association to limit the time on duty of its train employees to 12 hours total time on duty in a 24-hour period.

The SLSTA is a not-for-profit corporation that leases, maintains, and operates former St. Louis and San Francisco steam locomotive number 1522. The SLSTA occasionally operates locomotive 1522 on the general railroad system as motive power for trains operated for historical, excursion, or other purposes. The SLSTA has three individuals who are certified locomotive engineers and who operate the controls of the locomotive under the provisions of Title 49 Code of Federal Regulations, part 240. In addition, the association has three individuals who act as traditional firemen. The SLSTA requests relief to utilize its train and engine crews for up to 16 hours in the event of unusual circumstances. The association does not plan for its train and engine crew employees to perform service for more than 12 hours. However, due to the nature of its operations that occasionally involve operating on the general railroad system and its limited staff, unexpected and unusual circumstances may terminate the operation of the train prior to its final destination. The SLSTA states that allowing an engineer to operate beyond the normal 12-hour limit will not compromise safety, in that, host-railroad pilots and supervisors will also be on board the locomotive while it is being operated.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-11701) and must be submitted to the Docket Clerk, DOT Central Docket Management Facility, Room PL-401, Washington, DC, 20590-0001. Communications received within 45 days of the date of this notice will be considered by FRA before final action is taken. Comments received after that date will be considered as far as practicable. All written communications concerning these proceedings are available for examination during regular business hours (9:00 a.m.—5:00 p.m.) at the above facility. All documents in the public docket are also available for inspection and copying on the Internet at the docket facility's Web site at http://dms.dot.gov.

Issued in Washington, DC, on April 22, 2002.
Grady C. Cothen, Jr.,
Deputy Associate Administrator for Safety Standards and Program Development.

[FR Doc. 02-10234 Filed 4-25-02; 8:45 am]

BILLING CODE 4910-06-P